DEPARTMENT OF HEALTH AND HUMAN SERVICES

Solicitation of Written Comments on the Draft National Adult Immunization Plan; Extension of Comment Period

AGENCY: National Vaccine Program Office, Office of the Assistant Secretary for Health, Office of the Secretary, Department of Health and Human Services (HHS).

ACTION: Notice.

SUMMARY: The Department of Health and Human Services (HHS), through the National Vaccine Program Office (NVPO) is extending the public comment period for a draft document titled “The National Adult Immunization Plan (NAIP).” The availability of that draft document was published in the Federal Register on February 6, 2015, Volume 80, Number 25, pages 6721-6722.

DATES: The comment period is extended by 14 days and thus will end on March 23, 2015.

ADDRESSES: (1) The draft NAIP is available on the Web at www.hhs.gov/nvpo/.

(2) Electronic responses are preferred and may be addressed to: Rebecca.Fish@hhs.gov.

(3) Written responses should be addressed to: National Vaccine Program Office, U.S. Department of Health and Human Services, 200 Independence Avenue SW., Room 733G, Washington, DC 20201.

FOR FURTHER INFORMATION CONTACT: Rebecca Fish, National Vaccine Program Office, Office of the Assistant Secretary for Health, Department of Health and Human Services; telephone (202) 260-9283; fax (202) 260-1165; email: Rebecca.Fish@hhs.gov.

SUPPLEMENTARY INFORMATION: The notice of availability of the draft National Adult Immunization Plan (NAIP) was published in the Federal Register on February 6, 2015, Volume 80, Number 25, pages 6721-6722, with a deadline for comments of March 9, 2015. The NAIP is a national plan that will require engagement from a wide range of stakeholders to achieve its full vision. The plan emphasizes collaboration and prioritization of efforts that will have the greatest impact. NVPO is soliciting public comment on the draft NAIP from a variety of stakeholders, including the general public, for consideration as they develop their final report to the Secretary. Since the notice of availability and draft guidance documents were published, the Department has received requests to extend the comment period to allow sufficient time for a full review of the draft NAIP. NVPO is committed to affording the public a meaningful opportunity to comment on the draft NAIP and welcomes comments.

Persons with access to the Internet may obtain the draft National Adult Immunization Plan on NVPO's Web site at http://www.hhs.gov/nvpo.

Dated: February 25, 2015.
Bruce Gellin,
Deputy Assistant Secretary for Health, Director, National Vaccine Program Office, Executive Secretary, National Vaccine Advisory Committee.

[FR Doc. 2015-05030 Filed 3-4-15; 8:45 am]

BILLING CODE 4150-44-P